COMMISSION ON CIVIL RIGHTS

Agenda and Notice of Public Meeting of the Pennsylvania Advisory Committee

Notice is hereby given, pursuant to the provisions of the rules and regulations of the U.S. Commission on Civil Rights and the Federal Advisory Committee Act, that both an orientation meeting and planning meeting of the Pennsylvania Advisory Committee to the U.S. Commission on Civil Rights will convene at 11:30 a.m. and adjourn at 2 p.m. on Wednesday, December 19, 2007, in the conference room at the Law Offices of Buchanan Ingersoll & Rooney, 17 North Second Street, 15th Floor, Harrisburg, Pennsylvania 17101-1503.

The purpose of the orientation meeting is to inform members about the rules and procedures applicable to members of the SAC, including federal ethics laws and rules of conduct, and to the operations of SAC meetings. The purpose of the planning meeting is to review civil rights issues in the State and plan future projects.

Members of the public are entitled to submit written comments. The comments must be received in the Eastern Regional Office by January 4, 2008. The address is 624 Ninth Street, NW., Washington, DC 20425. Persons wishing to e-mail their comments, or who desire additional information should contact Alfreda Greene, Secretary, 202-376-7533, TTY 202-376-8116, or by e-mail: agreene@usccr.gov.

Hearing impaired persons who will attend the meeting and require the service of a sign language interpreter should contact the Regional Office at least (10) working days before the scheduled date of the meeting.

Records generated from these meetings may be inspected and reproduced at the Eastern Regional Office, as they become available, both before and after the meeting. Persons interested in the work of this advisory committee are advised to go to the Commission's Web site, http://www.usccr.gov, or to contact the Eastern Regional Office at the above e-mail or street address.

The meetings will be conducted pursuant to the provisions of the rules and regulations of the Commission and the Federal Advisory Committee Act.

Dated in Washington, DC, November 20, 2007.
Ivy L. Davis,
Acting Chief, Regional Programs Coordination Unit.

[FR Doc. E7-22949 Filed 11-23-07; 8:45 am]

BILLING CODE 6335-01-P